DEPARTMENT OF HEALTH AND HUMAN SERVICES

National Institutes of Health

National Eye Institute; Amended Notice of Meeting

Notice is hereby given of a change in the meeting of the Board of Scientific Counselors, National Eye Institute, July 14, 2003, 8 a.m to July 15, 2003, 12 p.m., National Institutes of Health, Building 31, 31 Center Drive, Bethesda, MD, 20892, which was published in the Federal Register on May 29, 2003, 03 13360.

The Board of Scientific Counselors meeting date has been changed to September 29, 2003. The meeting is closed to the public.

Dated: August 7, 2003.
LaVerne Y. Stringfield,
Director, Office of Federal Advisory Committee Policy.

[FR Doc. 03-20738 Filed 8-13-03; 8:45 am]

BILLING CODE 4140-01-M